DEPARTMENT OF EDUCATION

President's Advisory Commission on Educational Excellence for Hispanics

AGENCY: White House Initiative on Educational Excellence for Hispanics, U.S. Department of Education.

ACTION: Announcement of an open meeting.

SUMMARY: This notice sets forth the schedule and agenda of the tenth meeting of the President's Advisory Commission on Educational Excellence for Hispanics. The notice also describes the functions of the Commission. Notice of the meeting is required by section 10(a)(2) of the Federal Advisory Committee Act and intended to notify the public of its opportunity to attend.

DATES: The President's Advisory Commission on Educational Excellence for Hispanics meeting will be held on Tuesday, April 14, 2015 from 9 a.m.-4 p.m. Eastern Daylight Time.

ADDRESSES: New Building, John Jay College, 860 11th Avenue, New York, NY 10019.

FOR FURTHER INFORMATION, CONTACT: Emmanuel Caudillo, Special Advisor, White House Initiative on Educational Excellence for Hispanics, 400 Maryland Ave. SW., Room 4W108, Washington, DC 20202; telephone: 202-401-1411.

SUPPLEMENTARY INFORMATION: The President's Advisory Commission on Educational Excellence for Hispanics Statutory Authority and Function: The President's Advisory Commission on Educational Excellence for Hispanics (the Commission) is established by Executive Order 13555 (Oct. 19, 2010; reestablished December 12, 2012 by Executive Order 13634). The Commission is governed by the provisions of the Federal Advisory Committee Act (FACA), (Pub. L. 92-463; as amended, 5 U.S.C.A., Appendix 2) which sets forth standards for the formation and use of advisory committees. The purpose of the Commission is to advise the President and the Secretary of Education on all matters pertaining to the education attainment of the Hispanic community.

The Commission shall advise the President and the Secretary in the following areas: (i) Developing, implementing, and coordinating educational programs and initiatives at the Department and other agencies to improve educational opportunities and outcomes for Hispanics of all ages; (ii) increasing the participation of the Hispanic community and Hispanic-Serving Institutions in the Department's programs and in education programs at other agencies; (iii) engaging the philanthropic, business, nonprofit, and education communities in a national dialogue regarding the mission and objectives of this order; (iv) establishing partnerships with public, private, philanthropic, and nonprofit stakeholders to meet the mission and policy objectives of this order.

Individuals who wish to attend the Commission meeting must RSVP by 12 noon EDT, Friday, April 10th, 2015, to WHIEEH@ed.gov.

An opportunity for public comment will be available on Tuesday, April 14, 2014, from 9 a.m. to 4 p.m., EDT. Individuals who wish to provide comments will be allowed three minutes to speak. Those members of the public interested in submitting written comments may do so by submitting them to the attention of Emmanuel Caudillo, White House Initiative on Educational Excellence for Hispanics, U.S. Department of Education, 400 Maryland Ave. SW., Room 4W108, Washington, DC 20202, by Friday, April 10, 2015 or via email at WHIEEH@ed.gov.

Meeting Agenda

The open meeting will facilitate a discussion on the Commission's 25th Anniversary year of action strategy, including updates on the Administration's education priorities and proposed anniversary outreach and engagement efforts, provide an opportunity for breakout sessions led by each subcommittee—Early Learning, K-12, and Postsecondary Education, and allow for a public comment session.

Access to Records of the Meeting: The Department will post the official report of the meeting on the Commission's Web site 90 days after the meeting. Pursuant to the FACA, the public may also inspect the materials at 400 Maryland Avenue SW., Washington, DC, by emailing Emmanuel.Caudillo@ed.gov or by calling (202) 401-1411 to schedule an appointment.

Reasonable Accommodations: Individuals who will need accommodations in order to attend the meeting (e.g., interpreting services, assistive listening devices, or material in alternative format) should notify Emmanuel Caudillo, Special Advisor, White House Initiative on Educational Excellence for Hispanics at 202-401-1411, no later than Wednesday, April 8th, 2015. We will attempt to meet requests for such accommodations after this date, but cannot guarantee their availability. The meeting site is accessible to individuals with disabilities.

Electronic Access To This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site.

You may also access documents of the Department published in the Federal Register by using the article search feature at: www.federalregister.gov. Specifically, through the advanced search feature at this site, you can limit your search to documents published by the Department.

Authority: Executive Order 13555; reestablished by Executive Order 13634.

Ted Mitchell,
Under Secretary, U.S. Department of Education.

[FR Doc. 2015-06937 Filed 3-25-15; 8:45 am]

BILLING CODE 4000-01-P